DEPARTMENT OF THE TREASURY

Office of Foreign Assets Control

31 CFR Chapter V

Publication of Iranian Transactions and Sanctions Regulations Web General License

AGENCY: Office of Foreign Assets Control, Treasury.

ACTION: Publication of a web general license.

SUMMARY: The Department of the Treasury's Office of Foreign Assets Control (OFAC) is publishing a general license (GL) issued in the Iranian sanctions program: GL R. This GL was previously made available on OFAC's website upon its issuance.

DATES: GL R was issued on July 30, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On July 30, 2025, OFAC issued GL R to authorize certain transactions otherwise prohibited by Executive Order 13902 of January 10, 2020 (“Imposing Sanctions With Respect to Additional Sectors of Iran,” 85 FR 2003, January 14, 2020). GL R was made available on OFAC's website (https://ofac.treasury.gov) when it was issued. The text of this GL is provided below.

OFFICE OF FOREIGN ASSETS CONTROL

Executive Order 13902 of January 10, 2020

Imposing Sanctions With Respect to Additional Sectors of Iran

GENERAL LICENSE R

Authorizing Limited Safety and Environmental Transactions and the Offloading of Cargo Involving Certain Persons or Vessels Blocked on July 30, 2025

(a) Except as provided in paragraph (b) of this general license, all transactions prohibited by Executive Order (E.O.) 13902 that are ordinarily incident and necessary to one or more of the following activities involving the blocked vessels or blocked persons listed in the Annex to this general license, and any entity in which those blocked persons own, directly or indirectly, individually or in the aggregate, a 50 percent or greater interest, are authorized through 12:01 a.m. eastern daylight time, October 1, 2025, provided that any payment to a blocked person must be made into a blocked interest-bearing account located in the United States:

(1) The safe docking and anchoring in, and departure from, any port, excluding ports located in Iran or the Russian Federation, or under the control of the Government of Iran or the Government of the Russian Federation, of the blocked vessels listed in the Annex to this general license (the “Blocked Vessels”);

(2) The preservation of the health or safety of the crew of any of the Blocked Vessels;

(3) Emergency repairs of any of the Blocked Vessels or environmental mitigation or protection activities relating to any of the Blocked Vessels; or

(4) The delivery and offloading of cargo involving the Blocked Vessels, provided that the cargo was loaded on or before July 30, 2025 and that the delivery and offloading of cargo does not occur at any port located in Iran or the Russian Federation or under the control of the Government of Iran or the Government of the Russian Federation.

Note 1 to paragraph (a). The authorization in paragraph (a) of this general license includes services such as vessel management, crewing, bunkering, piloting, registration, flagging, insurance, classification, and salvage.

(b) This general license does not authorize:

(1) The entry into any new commercial contracts involving the property or interests in property of any blocked persons, including the blocked persons described in paragraph (a) of this general license, except as authorized by paragraph (a); or

(2) Any transactions or activities prohibited by E.O. 13902, except as authorized by paragraph (a) of this general license, or any transaction or activity prohibited by any other E.O. or any part of 31 CFR chapter V, including any transaction or activity involving Iran, the Government of Iran, or Iranian-origin goods or services that is prohibited by the Iranian Transactions and Sanctions Regulations (31 CFR part 560).

Lawrence M. Scheinert,

Acting Deputy Director, Office of Foreign Assets Control,

Dated: July 30, 2025.

Annex—Blocked Persons and Vessels Described in Paragraph (a) of General License R

List of Blocked Persons and Blocked Vessels Described in Paragraph (a) of General License R as of July 30, 2025:

Blocked person | Blocked vessel name | IMO No.
Marvise SMC DMCC | ALE | 9303754
Marvise SMC DMCC | BERTIE | 9241487
Marvise SMC DMCC | BIGLI | 9307047
Marvise SMC DMCC | HAKUNA MATATA | 9354167
Marvise SMC DMCC | LIDIA | 9330501
Marvise SMC DMCC | MOANA | 9292151
Marvise SMC DMCC | PINOCCHIO | 9400112
Marvise SMC DMCC | PUMBA | 9302566
Marvise SMC DMCC | RANTANPLAN | 9307023
Marvise SMC DMCC | SIMBA | 9719862
Marvise SMC DMCC | STAR | 9436484
Marvise SMC DMCC | TEX | 9246322
Marvise SMC DMCC | TIMON | 9415844
Marvise SMC DMCC | YOGI | 9307009
Marvise SMC DMCC | ZAGOR | 9313242
Reel Shipping L.L.C | ACE | 9228538
Reel Shipping L.L.C | AEOLUS | 9088524
Reel Shipping L.L.C | CERUS | 9259408
Reel Shipping L.L.C | DHANU | 9122473
Reel Shipping L.L.C | GAUJA | 9348493
Reel Shipping L.L.C | ROB | 9236652
Reel Shipping L.L.C | TB ANPING | 9237084

Bradley T. Smith,
Director, Office of Foreign Assets Control.

[FR Doc. 2025-19120 Filed 9-30-25; 8:45 am]

BILLING CODE 4810-AL-P